DEPARTMENT OF TRANSPORTATION

Maritime Administration

[Docket No. USCG-2013-0363]

Deepwater Port License Application: Liberty Natural Gas LLC, Port Ambrose Deepwater Port

AGENCY: Maritime Administration, Department of Transportation.

ACTION: Notice of Intent; Notice of Public Meeting; Request for Comments.

SUMMARY: The Maritime Administration (MarAd), in coordination with the U.S. Coast Guard (USCG), will prepare an environmental impact statement (EIS) as part of the environmental review of the Port Ambrose Deepwater Port License Application. The application describes an offshore natural gas deepwater port facility that would be located approximately 17 nautical miles southeast of Jones Beach, New York, 24 nautical miles east of Long Branch, New Jersey, and about 27 nautical miles from the entrance to New York Harbor in a water depth of approximately 103 feet. Publication of this notice begins a 30 day scoping process that will help identify and determine the scope of environmental issues to be addressed in the EIS. This notice requests public participation in the scoping process, provides information on how to participate, and announces informational open houses and public meetings in New York and New Jersey. Pursuant to the criteria provided in the Deepwater Port Act of 1974, as amended, 33 U.S.C. 1501 et seq. (the Act), both New Jersey and New York are the Adjacent Coastal States for this application.

DATES: There will be two public scoping meetings held in connection with the application. The first public meeting will be held in Long Beach, New York on July 9, 2013 from 6 p.m. to 8 p.m. The second public meeting will be held in Edison, New Jersey on July 10, 2013 from 6 p.m. to 8 p.m. Both public meetings will be preceded by an open house from 4:30 p.m. to 5:30 p.m.

Each of the public meetings may end later than the stated time, depending on the number of persons wishing to speak. Additionally, materials submitted in response to the request for comments on the license application must reach the Docket Management Facility as detailed below, by July 14, 2013.

ADDRESSES: The open house and public meeting in Long Beach, New York will be held at the Allegria Hotel, 80 West Broadway, Long Beach, New York 11561, phone 516-889-1300. Free street parking is available and the parking lot at the Long Island Railroad Long Beach Train Station near Park Place and Park Avenue approximately 1200 feet from the hotel is available from 5 p.m. to 5 a.m. In addition, there is free valet parking at the hotel for those that want and/or need to use this service. The open house and public meeting in Edison, New Jersey will be held at the New Jersey Convention and Exposition Center, 97 Sunfield Avenue, Edison, New Jersey 08837, phone 732-417-1400. Free parking is available at the center.

The license application, comments and associated documentation, and Draft and Final EISs (when published) are available for viewing at the Federal Docket Management System (FDMS) Web site: http://www.regulations.gov under docket number USCG-2013-0363.

Docket submissions for USCG-2013-0363 should be addressed to: Department of Transportation, Docket Management Facility, West Building, Ground Floor, Room W12-140, 1200 New Jersey Avenue SE., Washington, DC 20590-0001.

The Federal Docket Management Facility accepts hand-delivered submissions, and makes docket contents available for public inspection and copying at the above address between 9:00 a.m. and 5:00 p.m., Monday through Friday, except Federal holidays. The Facility telephone number is 202-366-9329, the fax number is 202-493-2251, and the Web site for electronic submissions or for electronic access to docket contents is http://www.regulations.gov.

FOR FURTHER INFORMATION CONTACT: Roddy Bachman, U.S. Coast Guard, telephone: 202-372-1451, email: Roddy.C.Bachman@uscg.mil, or Tracey Ford, Maritime Administration, telephone: 202-366-0321, email: Tracey.Ford@dot.gov. For questions regarding viewing the Docket, call Barbara Hairston, Program Manager, Docket Operations, telephone 202-366-9826.

SUPPLEMENTARY INFORMATION:

Public Meeting and Open House

You are invited to learn about the proposed deepwater port at any of the above informational open houses, and to comment at any of the above public meetings on environmental issues related to the proposed deepwater port. Your comments will help us identify and refine the scope of the environmental issues to be addressed in the EIS.

Speaker registration will be available at the door. Speakers at the public scoping meeting will be recognized in the following order: Elected officials, public agencies, individuals or groups in the sign-up order, and anyone else who wishes to speak.

In order to allow everyone a chance to speak at a public meeting, speaker time may be limited, meeting hours may be extended, or both. You must identify yourself, and any organization you represent, by name. Your remarks will be recorded or transcribed for inclusion in the public docket.

You may submit written material at a public meeting, either in lieu of or in addition to speaking. Written material must include your name and address, and will be included in the public docket.

Public docket materials will be made available to the public on the Federal Docket Management Facility (see Request for Comments).

Public meeting locations are wheelchair-accessible. If you plan to attend an open house or public meeting, and need special assistance such as sign language interpretation or other reasonable accommodation, please notify the USCG (see FOR FURTHER INFORMATION CONTACT) at least 3 business days in advance. Include your contact information as well as information about your specific needs.

Request for Comments

We request public comments or other relevant information on environmental issues related to the proposed deepwater port. Note that the public meeting is not the only opportunity you have to comment. In addition to, or in lieu of attending a meeting, you can submit comments to the Federal Docket Management Facility during the public comment period (see DATES). We will consider all comments and material received during the comment period.

Submissions should include:

• Docket number USCG-2013-0363.

• Your name and address.

Submit comments or material using only one of the following methods:

• Electronic submission to the Federal Docket Management Facility, http://www.regulations.gov.

• Fax, mail, or hand delivery to the Federal Docket Management Facility (see ADDRESSES). Faxed or hand delivered submissions must be unbound, no larger than 8½ by 11 inches, and suitable for copying and electronic scanning. If you mail your submission and want to confirm it reaches the Facility, include a stamped, self-addressed postcard or envelope.

Regardless of the method used for submitting comments or material, all submissions will be posted, without change, to the FDMS Web site (http://www.regulations.gov), and will include any personal information you provide. Therefore, submitting this information makes it public. You may wish to read the Privacy and Use Notice that is available on the FDMS Web site, and the Department of Transportation Privacy Act Notice that appeared in the Federal Register on April 11, 2000 (65 FR 19477), see PRIVACY ACT. You may view docket submissions at the Department of Transportation Docket Management Facility or electronically on the FDMS Web site (see ADDRESSES).

Background

Information about deepwater ports, the statutes, and regulations governing their licensing including the application review process, and the receipt of the current application for the proposed Port Ambrose liquefied natural gas (LNG) Deepwater Port appears in the Federal Register on June 14, 2013, 78 FR 36014. The “Summary of the Application” from that publication is reprinted below for your convenience.

Consideration of a deepwater port license application includes review of the proposed deepwater port's natural and human environmental impacts. The USCG is the lead agency for determining the scope of this review, and in this case USCG has determined that review must include preparation of an EIS. This notice of intent is required by 40 CFR 1501.7, and briefly describes the proposed action, possible alternatives, and our proposed scoping process. You can address any questions about the proposed action, the scoping process, or the EIS to the U.S. Coast Guard project manager identified in FOR FURTHER INFORMATION CONTACT.

Proposed Action and Alternatives

The proposed action requiring environmental review is the Federal licensing of the proposed deepwater port described in “Summary of the Application” below. The alternatives to licensing the proposed port are: (1) licensing with conditions (including conditions designed to mitigate environmental impact), or (2) denying the application, which for purposes of environmental review is the “no-action” alternative.

Scoping Process

Public scoping is an early and open process for identifying and determining the scope of issues to be addressed in the EIS. Scoping begins with this notice, continues through the public comment period (see DATES), and ends when the USCG has completed the following actions:

• Invites the participation of Federal, state, and local agencies, any affected Indian tribe, the applicant, and other interested persons;

• Determines the actions, alternatives, and impacts described in 40 CFR 1508.25;

• Identifies and eliminates, from detailed study, those issues that are not significant or that have been covered elsewhere;

• Allocates responsibility for preparing EIS components;

• Indicates any related environmental assessments or environmental impact statements that are not part of the EIS;

• Identifies other relevant environmental review and consultation requirements;

• Indicates the relationship between timing of the environmental review and other aspects of the application process; and

• At its discretion, exercises the options provided in 40 CFR 1501.7(b).

Once the scoping process is complete, the USCG will prepare a draft EIS in conjunction with MarAd. Also, MarAd will publish a Federal Register notice announcing public availability of the draft EIS. (If you want that notice to be sent to you, please contact the Coast Guard project manager identified in FOR FURTHER INFORMATION CONTACT.) You will have an opportunity to review and comment on the draft EIS. The USCG will consider those comments, and then prepare the final EIS. As with the draft EIS, we will announce the availability of the final EIS, and once again give you an opportunity for review and comment and include final public hearings as required by the Act.

Summary of the Application

Liberty Natural Gas, LLC is proposing to construct, own, and operate a liquefied natural gas (LNG) deepwater port, known as Port Ambrose, located in the New York Bight. The Port Ambrose facility will be located at a different proposed location and include a different design than the previous deepwater port license application submitted by Liberty Natural Gas, LLC in 2010. Port Ambrose would consist of two Submerged Turret Loading Buoys (STL Buoys) in Federal waters approximately 17 nautical miles southeast of Jones Beach, New York, approximately 24 nautical miles east of Long Branch, New Jersey, and about 27 nautical miles from the entrance to New York Harbor, in a water depth of approximately 103 feet.

LNG would be delivered from purpose-built LNG regasification vessels (LNGRVs), vaporized on site and delivered through the STL Buoys, flexible riser/umbilical, subsea manifold and lateral pipelines to a buried 19 nautical mile subsea Mainline connecting to the existing Transco Lower New York Bay Lateral in New York State waters approximately 2.2 nautical miles south of Long Beach, New York and 13 nautical miles east of New Jersey. The buoys would be lowered to rest on a landing pad when not in use and would also include a pile-anchored mooring array.

STL Buoy 1 is located at Latitude: 40°19′24.61″ N and Longitude: 73°25′45.33″ W. STL Buoy 2 is located at Latitude: 40°20′09.26″ N and Longitude 73°23′51.92″ W. The Port components would fall in the following U.S. Outer Continental Shelf (OCS) lease blocks:

Buoy 1 (6708, 6709, 6758); Buoy 2 (6709); Lateral 1 (6708); Lateral 2 (6708, 6709); “Y” Assembly (6708); Mainline Pipeline (6708, 6658, 6657, 6607, 6606, 6556, 6555, 6554, 6504 and 6503).

The 145,000 cubic meter LNGRVs would have onboard closed-loop vaporization and metering and odorant capability. Each vessel will have three vaporization units capable of maximum send-out of 750 million standard cubic feet per day (MMscfd) (maximum pipeline system flow rate is 660 MMscfd with two buoys) with annual average expected to be 400 MMscfd. The LNGRVs have been designed to utilize a ballast water cooling system that will entirely re-circulate onboard the vessel during Port operations, eliminating vessel discharges associated with regasification while at the Port. Deliveries through Port Ambrose would be focused during peak demand winter and summer months and it is anticipated that approximately 45 deliveries will occur each year.

As proposed, the LNGRVs would access the port inbound from the Hudson Canyon to Ambrose Traffic Lane and depart via the Ambrose to Nantucket Traffic Lane. MarAd and USCG are aware that Port Ambrose falls within the proposed area of interest for the Long Island—New York City Offshore Wind Collaborative wind energy project. This project will be acknowledged and considered in the processing of the Port Ambrose application and National Environmental Policy Act (NEPA) analysis.

If approved, the majority of the port and pipeline construction and installation would occur in 2015, with commissioning in December 2015.

In addition, pipelines and structures such as the STL Buoy moorings may require permits under Section 404 of the Clean Water Act and Section 10 of the Rivers and Harbors Act which are administered by the Army Corps of Engineers (USACE).

Port Ambrose may also require permits from the Environmental Protection Agency (EPA) pursuant to the provisions of the Clean Air Act, as amended, and the Clean Water Act, as amended.

The new pipeline will be included in the NEPA review as part of the deepwater port application process. The EPA and the USACE among others, are cooperating agencies and will assist in the NEPA process as described in 40 CFR 1501.6; may participate in the scoping meetings; and will incorporate the EIS into their permitting processes. Comments sent to the EPA or USACE will also be incorporated into the DOT docket and EIS to ensure consistency with the NEPA Process.

Should a license be issued, the deepwater port would be designed, fabricated, constructed, commissioned, maintained, inspected, and operated in accordance with applicable codes and standards and with USCG oversight as regulated under Title 33, Code of Federal Regulations (CFR), subchapter NN-Deepwater Ports, parts 148, 149, and 150. This also includes waterways management and regulated navigation areas, maritime safety and security requirements, risk assessment, and compliance with domestic and international laws and regulations for vessels that may call on the port.

Privacy Act

The electronic form of all comments received into the FDMS can be searched by the name of the individual submitting the comment (or signing the comment, if submitted on behalf of an association, business, labor union, etc.). The DOT Privacy Act Statement can be viewed in the Federal Register published on April 11, 2000 (Volume 65, Number 70, pages 19477-78) or by visiting http://www.regulations.gov.

(Authority 49 CFR 1.93)

Dated: June 19, 2013.
By Order of the Maritime Administrator.
Julie P. Agarwal,
Secretary, Maritime Administration.

[FR Doc. 2013-15008 Filed 6-21-13; 8:45 am]

BILLING CODE 4910-81-P